ENVIRONMENTAL PROTECTION AGENCY

40 CFR Parts 52, 78, and 97

[EPA-HQ-OAR-2015-0500; FRL-9940-57-OAR]

RIN 2060-AS05

Cross-State Air Pollution Rule Update for the 2008 Ozone NAAQS

AGENCY: Environmental Protection Agency (EPA).

ACTION: Proposed rule; extension of comment period.

SUMMARY: The Environmental Protection Agency (EPA) is extending the comment period for the proposed rule titled “Cross-State Air Pollution Rule Update for the 2008 Ozone NAAQS” that was published in the Federal Register on December 3, 2015. The proposal provided for a public comment period ending January 19, 2016. The EPA received several requests from the public to extend this comment period. The EPA is extending the comment period to a 60-day public comment period ending February 1, 2016.

DATES: The comment period for the proposed rule published December 3, 2015, at 80 FR 75706, is extended. Comments, identified by docket identification (ID) number EPA-HQ-OAR-2015-0500, must be received on or before February 1, 2016.

ADDRESSES: Follow the detailed instructions as provided under ADDRESSES in the December 3, 2015 proposal.

FOR FURTHER INFORMATION CONTACT: Mr. David Risley, Clean Air Markets Division, Office of Atmospheric Programs (Mail Code 6204M), Environmental Protection Agency, 1200 Pennsylvania Avenue NW., Washington, DC 20460; telephone number: (202) 343-9177; email address: Risley.David@epa.gov.

SUPPLEMENTARY INFORMATION: This document extends the public comment period for the proposed Cross-State Air Pollution Rule Update for the 2008 Ozone NAAQS (80 FR 75706, December 3, 2015) in order to ensure that the public has sufficient time to review and comment on the proposal.

List of Subjects in 40 CFR Parts 52, 78, and 97

Environmental protection, Administrative practice and procedure, Air pollution control, Electric power plants, Incorporation by reference, Nitrogen oxides, Reporting and record keeping requirements.

Dated: December 18, 2015.
Sarah Dunham,
Director, Office of Atmospheric Programs.

[FR Doc. 2015-32507 Filed 12-28-15; 8:45 am]

BILLING CODE 6560-50-P